DEPARTMENT OF HEALTH AND HUMAN SERVICES

National Biodefense Science Board; Notification of a Public Teleconference

AGENCY: Department of Health and Human Services, Office of the Secretary.

ACTION: Notice.

SUMMARY: As stipulated by the Federal Advisory Committee Act, the U.S. Department of Health and Human Services is hereby giving notice that the National Biodefense Science Board (NBSB) will be holding a public teleconference. The meeting is open to the public.

DATES: The NBSB will hold a public teleconference on October 14, 2008. The teleconference will be held from 10 a.m. to 11 a.m. EST. Public Conference Call-in Number is available by contacting CAPT Leigh Sawyer (see below). Participants will be asked to provide their name, title, and organization.

ADDRESSES: The conference will be conducted by phone.

FOR FURTHER INFORMATION CONTACT: Any member of the public wishing to obtain general information concerning this public teleconference should contact CAPT Leigh A. Sawyer, D.V.M., M.P.H., Executive Director, National Biodefense Science Board, Office of the Assistant Secretary for Preparedness and Response, U.S. Department of Health and Human Services, e-mail at: leigh.sawyer@hhs.gov.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Background: The purpose of the October 14, 2008 teleconference is to discuss recommendations from the Personal Preparedness Working Group and to ensure the public is provided opportunity to be involved in the deliberative process of the Board on personal preparedness issues that will specifically impact the Nation. The recommendations will include suggestions for evaluation of the pre-positioning of Med-Kits for use following an exposure to anthrax. A special meeting of the Board is being convened to assure that the public is given the opportunity to provide comments on the proposed recommendations. There will be time for members of the public to present their comments to the Board on this subject matter.

Availability of Materials: The agenda and other materials will be posted on the NBSB Web site at http://www.hhs.gov/aspr/omsph/nbsb/index.html prior to the meeting.

Procedures for Providing Public Input: Interested members of the public may submit relevant written or oral information for the NBSB to consider.

Oral Statements: In general, individuals or groups requesting an oral presentation at a public NBSB teleconference will be limited to three minutes per speaker, with no more than a total of 20 minutes for all speakers. To be placed on the public speaker list, you should notify the operator when you enter the call-in number.

Dated: September 26, 2008.
William C. Vanderwagen,
Assistant Secretary for Preparedness and Response, U.S. Department of Health and Human Services.

[FR Doc. E8-23144 Filed 9-29-08; 11:15 am]

BILLING CODE 4150-37-P